DEPARTMENT OF HOUSING AND URBAN DEVELOPMENT

[Docket No. FR-5500-FA-30]

Announcement of Funding Awards for the Sustainable Communities Regional Planning Grant Program for Fiscal Year 2011

AGENCY: Office of Sustainable Housing and Communities, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Sustainable Communities Regional Planning Grant Program (Regional Grants). This announcement contains the consolidated names and addresses of this year's award recipients.

FOR FURTHER INFORMATION CONTACT: Dwayne S. Marsh, Office of Sustainable Housing and Communities, U.S. Department of Housing and Urban Development, 451 Seventh Street SW., Washington, DC 20410-4500, telephone (202) 402-6316. Hearing or speech-impaired individuals may access this number via TTY by calling the toll-free Federal Information Service at (800) 877-8339.

SUPPLEMENTARY INFORMATION: The Sustainable Communities Regional Planning Grant Program (Program) supports metropolitan and multijurisdictional planning efforts that integrate housing, land use, economic and workforce development, transportation, and infrastructure investments in a manner that empowers jurisdictions to consider the interdependent challenges of: (1) Economic competitiveness and revitalization; (2) social equity, inclusion, and access to opportunity; (3) energy use and climate change; and (4) public health and environmental impact. The Program places a priority on investing in partnerships, including nontraditional partnerships (e.g., arts and culture, recreation, public health, food systems, regional planning agencies and public education entities) that translate the Livability Principles (Section I.C.1) into strategies that direct long-term development and reinvestment, demonstrate a commitment to addressing issues of regional significance, use data to set and monitor progress toward performance goals, and engage stakeholders and residents in meaningful decision-making roles.

Funding from this Program will support the development and implementation of Regional Plans for Sustainable Development (RPSD) that:

a. Identify affordable housing, transportation, water infrastructure, economic development, land use planning, environmental conservation, energy system, open space, and other infrastructure priorities for the region;

b. Clearly define a single, integrated plan for regional development that addresses potential population growth or decline over a minimum 20-year time frame, sets appropriate 3- to 5-year benchmark performance targets, and delineates strategies to meet established performance goals;

c. Establish performance goals and measures that are, at a minimum, consistent with the Sustainability Partnership`s Livability Principles;

d. Use geo-coded data sets and other metrics in developing, implementing, monitoring, and assessing the performance goals of various reinvestment scenarios;

e. Provide detailed plans, maps, policies, and implementation strategies to be adopted by all participating jurisdictions over time to meet planning goals;

f. Prioritize projects that facilitate the implementation of the regional plan and identify responsible implementing entities (public, nonprofit, or private) and funding sources;

g. Show how the proposed plan will establish consistency with HUD, Department of Transportation (DOT), and Environmental Protection Agency (EPA) programs and policies, such as Consolidated Plans, Analysis of Impediments to Fair Housing Choice, Long Range Transportation Plans, Indian Housing Plans, and Asset Management Plans, including strategies to modify existing plans, where appropriate; and

h. Engage residents and other stakeholders substantively and meaningfully in the development of the shared vision and its implementation early and throughout the process, including communities traditionally marginalized from such processes, while accommodating limited English speakers, persons with disabilities, and the elderly.

The FY 2011 awards announced in this Notice were selected for funding in a competition posted on Grants.gov and HUD's Web site on July 25, 2011. Applications were scored and selected for funding based on the selection criteria in that NOFA. The amount appropriated in FY 2011 to fund the Regional Grant Program was $70 million of which $2 million has been reserved for capacity support grants distributed separately. This notice announces the allocation of $67 million for Sustainable Community Regional Planning Grants, of which not less than $17.5 million is awarded to regions with populations of less than 500,000.

In accordance with Section 102 (a)(4)(C) of the Department of Housing and Urban Development Reform Act of 1989 (103 Stat. 1987, 42 U.S.C. 3545), the Department is publishing the names, addresses, and amounts of the 29 awards made under the competition in Appendix A to this document.

Dated:_December 22, 2011.
Shelley Poticha,
Director, Office of Sustainable Housing and Communities.

Appendix A

Sustainable Communities Regional Planning Grant Program
Grant Awards from FY 2011 Notice of Funding Availability
Rutgers, The State University of New Jersey, 3 Rutgers Plaza ASB III, 2nd Floor, New Brunswick, NJ: New Jersey 08901-8559 | $5,000,000
Niagara Frontier Transportation Authority, 181 Ellicott Street, Buffalo, NY: New York 14203-0032 | 2,000,000
State of Rhode Island, 1 Capitol Hill, Providence, RI: Rhode Island 02908-5872 | 1,934,961
Metropolitan Transportation Commission, 101 Eighth Street, Oakland, CA: California 94607-4707 | 4,991,336
Denver Regional Council of Governments, 1290 Broadway, Suite 700, Denver, CO: Colorado 80203-5606 | 4,500,000
Opportunity Link, Inc., 2229 5th Avenue, P.O. Box 80, Havre, MT: Montana 59501-0080 | 1,500,000
Centralina Council of Governments, 525 North Tryon Street, 12th Floor, Charlotte, NC: North Carolina 28202-0202 | 4,907,544
Nashua Regional Planning Commission, 9 Executive Park Drive, Suite 201, Merrimack, NH: New Hampshire 03054-4045 | 3,369,648
City of Henderson on behalf of the SNRPC, 240 Water St., P.O. Box 95050, Henderson, NV: Nevada 89009-5050 | 3,488,000
Northwest Regional Planning Commission, 155 Lake Street, St. Albans, VT: Vermont 05478-2219 | 480,000
East Arkansas Planning and Development District, P.O. Box 1403, 2905 King Street, Jonesboro, AR: Arkansas 72403-1403 | 2,600,000
East Central Florida Regional Planning Council, 309 Cranes Roost Blvd., Suite 2000, Altamonte Springs, FL: Florida 32701-3422 | 2,400,000
Fremont County Idaho, 125 North Bridge Street, St. Anthony, ID: Idaho 834455004 | 1,500,000
Rural Economic Area Partnership Investment Fund, Inc., P.O. Box 2024, Minot, ND: North Dakota 58702-2024 | 1,500,000
Doña Ana County, 845 N. Motel Blvd., Las Cruces, NM: New Mexico 80007-845 | 2,000,000
Adirondack Gateway Council Inc., 42 Ridge Street, Glens Falls, NY: New York 12801-3610 | 750,000
Cape Fear Council of Governments, 1480 Harbour Drive, Wilmington, NC: North Carolina 28401-7776 | 1,130,000
Baltimore Metropolitan Council, 1500 Whetstone Way, Suite 300, Baltimore, MD: Maryland 212304767 | 3,503,677
Shelby County Government, 160 North Main, Suite 850, Memphis, TN: Tennessee 38103-1812 | 2,619,999
Heart of Texas Council of Governments, 1514 South New Road, Waco, TX: Texas 76711-1316 | 660,000
Regional Economic Area Partnership, 1845 Fairmount St., Wichita, KS: Kansas 67260-0155 | 1,500,000
Flint Hills Regional Council, Inc., 500 Huebner Road, Fort Riley, KS: Kansas 66442-7409 | 1,980,000
Northwest Michigan Council of Governments, P.O. Box 506, Traverse City, MI: Michigan 49685-0506 | 660,000
Tri-County Regional Planning Commission, 913 W. Holmes Rd. Ste., 201, Lansing, MI: Michigan 48910-0411 | 3,000,000
Omaha-Council Bluffs Metropolitan Area Planning Agency (MAPA), 2222 Cuming, Omaha, NE: Nebraska 68102-4328 | 2,045,000
County of Erie, Erie County Courthouse, Room 111, 140 West Sixth Street, Erie, PA: Pennsylvania 16501-1092 | 1,800,000
Lehigh Valley Economic Development Corporation, 2158 Ave. C, Bethlehem, PA: Pennsylvania 18017-2148 | 3,400,000
Two Rivers-Ottauquechee Regional Commission, 128 King Farm Rd., Woodstock, VT: Vermont 05091-1052 | 540,000
Metroplan, 501 W. Markham, Ste. B, Little Rock, AR: Arkansas 72201-1409 | 1,400,000
Total | 67,160,165

[FR Doc. 2012-3952 Filed 2-17-12; 8:45 am]

BILLING CODE 4210-67-P